DEPARTMENT OF HEALTH AND HUMAN SERVICES

Office of the National Coordinator for Health Information Technology; American Health Information Community Meeting

ACTION: Announcement of meeting.

SUMMARY: This notice announces the 17th meeting of the American Health Information Community in accordance with the Federal Advisory Committee Act (Pub. L. 92-463, 5 U.S.C., App.) The American Health Information Community will advise the Secretary and recommend specific actions to achieve a common interoperability framework for health information technology (IT).

DATES: November 13, 2007, from 10:30 a.m. to 3:30 p.m. (Central Time).

ADDRESSES: Sheraton Chicago Hotel & Towers, 301 East North Water Street, Chicago, IL 60611, Conference Room TBD.

FOR FURTHER INFORMATION CONTACT: Visit http://www.hhs.gov/healthit/ahic/html.

SUPPLEMENTARY INFORMATION: The meeting will include a presentation on the Nationwide Health Information Network (NHIN) Trial Implementations; a report on the Health Information Technology Physician Adoption Survey; a presentation from the National Committee on Vital and Health Statistics on Secondary Uses; and a report from the AHIC Standing Committee of the Whole on the AHIC Successor.

A Web cast of the Community meeting will be available on the NIH Web site at: http://www.videocast.nih.gov/.

If you have special needs for the meeting, please contact (202) 690-7151.

Judith Sparrow,
Director, American Health Information Community, Office of Programs and Coordination, Office of the National Coordinator for Health Information Technology.

[FR Doc. 07-5232 Filed 10-23-07; 8:45 am]

BILLING CODE 4150-24-M